FEDERAL COMMUNICATIONS COMMISSION

[CC Docket No. 92-237; DA 01-2929]

Next Meeting of the North American Numbering Council

AGENCY: Federal Communications Commission.

ACTION: Notice.

SUMMARY: On December 19, 2001, the Commission released a public notice announcing the January 15-16, 2002 meeting and agenda of the North American Numbering Council (NANC). The intended effect of this action is to make the public aware of the NANC's next meeting and its agenda.

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW., Suite 6A207, Washington, DC 20554. The fax number is: (202) 418-2345. The TTY number is: (202) 418-0484.

SUPPLEMENTARY INFORMATION: Released: December 19, 2001.

The North American Numbering Council (NANC) has scheduled a meeting to be held Tuesday, January 15, 2002, from 8:30 a.m. until 5 p.m., and on Wednesday, January 16, 2002, from 8:30 a.m., until 12 noon (if required). The meeting will be held at the Federal Communications Commission, Portals II, 445 12th Street, SW., Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda

1. Announcements and Recent News

2. Approve Minutes

—September 25, 2001 Conference Call Meeting

November 27-28, 2001 Meeting

3. Report of North American Numbering Plan Administrator (NANPA)

4. Report of NANPA Oversight Working Group

—Industry associations to report on efforts to encourage members to complete surveys

5. Report of National Thousands-Block Pooling Administrator

6. Report of NANP Expansion/Optimization IMG

7. Status of Industry Numbering Committee activities

8. Report of the Local Number Portability Administration (LNPA) Working Group

—Wireless Number Portability Operations (WNPO) Subcommittee

9. Report of NAPM LLC

10. Report from NBANC

11. Report of Cost Recovery Working Group

12. Report of E-Conferencing Subcommittee

13. Steering Committee

—Table of NANC Projects

14. Report of Steering Committee

15. Action Items

16. Public Participation (5 minutes each)

17. Other Business

Adjourn (No later than 5 PM)

Wednesday, January 16, 2002 (if required)

18. Complete any unfinished Agenda Items

19. Other Business

Adjourn (No later than 12 Noon)

Federal Communications Commission.
Diane Griffin Harmon,
Acting Chief, Network Services Division, Common Carrier Bureau.

[FR Doc. 01-31580 Filed 12-21-01; 8:45 am]

BILLING CODE 6712-01-P